DEPARTMENT OF STATE

22 CFR Part 62

[Public Notice 5654]

Exchange Visitor Program—Professors and Research Scholars

AGENCY: Department of State.

ACTION: Final Rule; Announcement of Effective Date for Implementation of Five-Year Professor and Research Scholar Categories.

SUMMARY: By Notice published on November 1, 2006, 71 FR 64330, the Department of State identified November 4, 2006 as the effective date for its Final Rule published May 19, 2005, 70 FR 28815. The effective date of the Final Rule had been in order to permit the Department of Homeland Security to complete modifications to the Student and Exchange Visitor Information System (SEVIS) necessary for implementation. However, these SEVIS modifications did not become operational until the evening of November 17, 2006. Accordingly, effective November 18, 2006, current and future professor and research scholar participants will be eligible for five years of program participation as provided in the Final Rule, as amended. These participants will also be subject to the eligibility requirements for repeat participation set forth in the Final Rule, as amended. The Final Rule was amended by a Federal Register document published on June 23, 2005, 70 FR 36344. Requirements governing initial eligibility for participation as a professor or research scholar are unchanged. This document supersedes the Department's document published November 1, 2006, and the language of the Department's Final Rule published May 19, 2005, as it regards the rule's effective date. This certification will be published in the Federal Register.

DATES: Effective Date: The final rule published at 70 FR 28815, May 19, 2005, and corrected at 70 FR 36344, June 23, 2005, is effective November 18, 2006.

FOR FURTHER INFORMATION CONTACT: Karen Hawkins, (202) 203-5072.

Dated: December 28, 2006.
Stanley S. Colvin,
Director, Office of Exchange Coordination and Designation, Department of State.

[FR Doc. E6-22631 Filed 1-10-07; 8:45 am]

BILLING CODE 4710-05-P